DEPARTMENT OF DEFENSE

Office of the Secretary

[Docket ID: DoD-2023-OS-0021]

Submission for OMB Review; Comment Request

AGENCY: Office of the Under Secretary of Defense for Personnel and Readiness (OUSD(P&R)), Department of Defense (DoD).

ACTION: 15-Day information collection notice.

SUMMARY: Consistent with the Paperwork Reduction Act of 1995 and its implementing regulations, this document provides notice DoD is submitting an Information Collection Request to the Office of Management and Budget (OMB) to collect information on Active Duty, Reserve, and National Guard used in evaluating existing policies and programs, establishing baseline measures before implementing new policies and programs, and monitoring the progress of policies/programs that make a difference in the lives of Service members and their families. DoD requests emergency processing and OMB authorization to collect the information after publication of this notice for a period of 18 months.

DATES: Comments must be received by April 4, 2023.

ADDRESSES: The Department has requested emergency processing from OMB for this information collection request by 15 days after publication of this notice. Interested parties can access the supporting materials and collection instrument as well as submit comments and recommendations to OMB at www.reginfo.gov/public/do/PRAMain. Find this particular information collection by selecting “Currently under 30-day Review—Open for Public Comments” or by using the search function. Comments submitted in response to this notice will be summarized and included in the request for OMB approval of this information collection. They will also become a matter of public record.

FOR FURTHER INFORMATION CONTACT: Angela Duncan, 571-372-7574, or whs.mc-alex.esd.mbx.dd-dod-information-collections@mail.mil.

SUPPLEMENTARY INFORMATION: In 2021, the White House identified a priority goal to reduce military and veteran suicide by advancing evidence-based approaches to improve Lethal Means Safety (LMS). This priority goal focuses on increasing time and space between a person in crisis and their access to lethal means, including firearms, medications, ligature points, and other lethal objects. No systematic evidence currently exists on how to best integrate effective education about lethal means safety into early military career training settings to ensure maximum receptiveness and subsequent adoption of safe storage practices. This project directly addresses DoDI 6400.09, DoD Policy on Integrated Primary Prevention of Self-Directed Harm and Prohibited Abuse or Harm (2020), which outlines a plan for a holistic prevention system that includes data-driven strategies. The purpose of the study is to conduct a needs assessment to determine the optimal approach for encouraging greater adoption of LMS within the military culture. The goal is to encourage Service members to store firearms securely, in a way that avoids misuse, accidents, self-inflicted injuries, and suicide. Focus groups will be conducted to help collect information that allows the DoD to understand when, where, and how Service members are introduced to principles of lethal means safety, particularly around safe handling of firearms, and to identify potential opportunities to capitalize on existing training and safety practices to enhance adoption of safe storage practices. This study is being conducted by Peraton, a DoD contractor, and is being sponsored by the Defense Suicide Prevention Office, in partnership with the Defense Personnel Assessment Center. Peraton will conduct up to 34 focus groups or key informant interviews, with up to 340 Service members and civilian support personnel, across all Services. The study findings will help inform DoD and the Service level plans to encourage greater adoption of lethal means safety practices among Service members by seamlessly inculcating education about the importance of lethal means safety within early military career training. Introducing these concepts early in Service members' careers aims to enhance receptiveness and adoption of lethal means safety practices that can contribute to reduced injuries and deaths including suicides, accidents, unauthorized use, and domestic violence.

Title; Associated Form; and OMB Number: Incorporating Lethal Means Safety into the Early Military Career Training Pipeline to Mitigate Suicide Risk; OMB Control Number 0704-ILMS.

Type of Request: New.

Number of Respondents: 340.

Responses per Respondent: 1.

Annual Responses: 340.

Average Burden per Response: 90 minutes.

Annual Burden Hours: 510.

Affected Public: Individuals or households.

Frequency: Once.

Respondent's Obligation: Voluntary.

Request for Comments: Comments are invited on: (1) Whether the proposed collection of information is necessary for the proper performance of the functions of DOD, including whether the information collected has practical utility; (2) the accuracy of DOD's estimate of the burden (including hours and cost) of the proposed collection of information; (3) ways to enhance the quality, utility, and clarity of the information to be collected; and (4) ways to minimize the burden of the collection of information on respondents, including automated collection techniques or the use of other forms of information technology.

Dated: March 15, 2023.
Aaron T. Siegel,
Alternate OSD Federal Register Liaison Officer, Department of Defense.

[FR Doc. 2023-05647 Filed 3-17-23; 8:45 am]

BILLING CODE 5001-06-P